DEPARTMENT OF JUSTICE

Notice of Availability of an Environmental Assessment on a Proposal To Award a Contract for New Low Security Beds to One Private Contractor To House Approximately 2,000 Federal, Low-Security, Adult Male, Non-U.S. Citizen, Criminal Aliens at a Contractor-Owned, Contractor-Operated Correctional Facility Under the CAR 15, Requirement B Initiative

AGENCY: Federal Bureau of Prisons, U.S. Department of Justice.

ACTION: Environmental Assessment.

SUMMARY: The U.S. Department of Justice, Federal Bureau of Prisons (BOP) announces the availability of the Criminal Alien Requirement 15, Requirement B Environmental Assessment (EA) for the proposal to award one contract to house up to 2,000 federal, low-security, adult males, non-U.S. citizen, criminal aliens within one existing contractor-owned, contractor-operated facility.

Background Information: Pursuant to Section 102, 42 U.S.C. 4332, of the National Environmental Policy Act (NEPA) of 1969, as amended, the Council on Environmental Quality Regulations for Implementing NEPA (40 CFR parts 1500-1508), and the BOP Procedures for Implementing NEPA (28 CFR part 61, Appendix A), the BOP prepared an Environmental Assessment (EA) to analyze the impacts of awarding one contract to house up to 2,000 low-security, adult male, non-U.S. citizen, criminal aliens within one existing contractor-owned and contractor-operated correctional facility.

It is anticipated that the number of inmates will continue to rise for several reasons. Federal court sentencing guidelines are resulting in longer terms of confinement for serious crimes. Moreover, there is an increase in immigration and offenders, along with a greater effort to combat organized crime and trafficking. As a result, existing BOP facilities are at capacity. In response, the BOP has focused on ways to reduce prison overcrowding by requesting additional contract beds for low security, adult male criminal aliens, expansion of current facilities, and building and operating new medium and high security facilities. The purpose of the project is to acquire additional bed space to address the need to reduce overcrowding in existing BOP facilities as a result of increases in convictions and sentence terms.

The BOP requires flexibility in managing existing low-security bed space as well as the anticipated future needs for low-security bed space. Use of an existing contractor-owned and operated correctional facility provides the BOP the flexibility needed to meet population capacity needs in a timely manner, conform to federal law, and maintain fiscal responsibility while successfully meeting the mission of the BOP.

The process to identify contracting opportunities for securing additional inmate bed space in support of the increasing needs of the BOP involved the BOP advertising for interested vendors to respond to the request for proposal (RFP) with options for meeting the requirements.

Based on the responses to the solicitation the BOP had four potential alternatives. The solicitation RFP-PCC-0022 (CAR 15 Requirement B) identified the evaluation criteria under which each offeror's proposal would be considered and evaluated. The non-price based evaluation criteria that consist of the following in descending order of importance:

• Past Performance

• Technical Proposal

• Environment

• Small Disadvantaged Business Participation

Project Information:

The proposed action is to award one contract to house up to 2,000 federal low-security, adult male, non-U.S. citizen, criminal aliens at an existing contractor-owned and contractor-operated correctional facility. Under the Proposed Action, the selected contractor would be required to operate the facility in a manner consistent with the mission and requirements of the BOP. All inmate services would be developed in a manner that complies with the BOP's contract requirements, as well as applicable federal, state, and local laws and regulations. In addition, the facility would be within proximity, and have access to, ambulatory, fire and police protection services.

The federal inmates assigned to this facility primarily would consist of inmates with sentences of 90 months or less remaining to be served. Inmates are anticipated to be federal, low-security, adult male, non-U.S. citizen, criminal aliens; however, the BOP may designate any inmate within its custody to serve their sentence in this facility.

Four existing privately owned and operated correctional facilities, one in Minnesota, two in Oklahoma, and one in Ohio, met the evaluation criteria of the BOP's solicitation for CAR 15 Requirement B. Each of the following existing facilities has been evaluated in this EA. In addition, the No Action Alternative is evaluated to determine baseline conditions and comply with the provisions of NEPA.

• Prairie Correctional Facility. Located in Appleton, Minnesota.

• Northeast Ohio Correctional Center. Located in Youngstown, Ohio.

• Great Plains Correctional Facility. Located in Hinton, Oklahoma.

• Diamondback Correctional Facility. Located in Watonga, Oklahoma.

No other facilities are under consideration by the BOP. Although the four alternatives have been evaluated within the EA, an environmentally preferred alternative has not been identified due to the pending contracting action.

Based on the analysis presented in the EA, there would be no significant impacts on natural and cultural resources, socioeconomics, environmental justice, community facilities and services, transportation and traffic, infrastructure and utilities, noise, and air quality as a result of the implementation of the proposed action under Alternative 1, Alternative 2, Alternative 3, or Alternative 4. Therefore, the BOP has determined there would be no significant impacts associated with the implementation of the proposed action.

Availability of the Environmental Assessment

The comment/review period will begin on October 31, 2014 and conclude on December 1, 2014. The EA and other information regarding the proposed action are available upon request by contacting: Thomas A. Webber, Chief, Capacity Planning and Construction Branch, Federal Bureau of Prisons, 320 First Street NW., Washington, DC 20534 (Telephone: (202) 514-6470, Fax: (202) 616-6024, or Email: twebber@bop.gov).

Dated: October 22, 2014.
Thomas A. Webber,
Chief, Capacity Planning and Construction Branch.

[FR Doc. 2014-25513 Filed 10-30-14; 8:45 am]

BILLING CODE 4410-CW-P